DEPARTMENT OF AGRICULTURE

Farm Service Agency

Information Collection; End-Use Certificate Program

AGENCY: Farm Service Agency, USDA.

ACTION: Notice; request for public comment.

SUMMARY: In accordance with the Paperwork Reduction Act of 1995, the Farm Service Agency (FSA) is seeking comments from all interested individuals and organizations on the extension of information collection currently used in support of the End-Use Certificate Program.

DATES: Comments about this notice must be received in writing on or before June 3, 2003, to be assured of consideration. Comments received after that date will be considered to the extent practicable.

ADDRESSES: Comments concerning this notice should be addressed to Sharon Miner, USDA, Farm Service Agency, Warehouse and Inventory Division, Program Development Branch, STOP 0553, 1400 Independence Avenue, SW., Washington, DC 20520-0553, (202) 720-6266; or by e-mail to: Sharon.Miner@usda.gov. Comments may be submitted via facsimile to (202) 690-3123.

SUPPLEMENTARY INFORMATION:

Description of Information Collection

Title: End-Use Certificate Program.

OMB Control Number: 0560-0151.

Type of Request: Extension of currently approved information collection.

Expiration Date of Approval: June 30, 2003.

Abstract: This information collected is used to ensure that Canadian wheat does not benefit from USDA or Commodity Credit Corporation assisted export programs. The End-Use Certificate Program is covered at 7 CFR part 782. The North American Free Trade Agreement Implementation Act requires USDA to establish the end-use certificate system for Canadian wheat. Accordingly, Farm Service Agency requires information from the importers, subsequent buyers, and end-users to assist in tracking the Canadian wheat within the U.S. marketing system.

Estimate of Annual Burden: Average 0.215 hours per response.

Type of Respondents: Wheat importers, traders, and end-users.

Estimated Annual Number of Respondents: 421.

Estimated Number of Responses per Respondent: 128.

Estimated Total Annual Burden on Respondents: 4,520 hours.

Comment is invited on: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission for Office of Management and Budget approval.

Signed in Washington, DC, on March 28, 2003.
James R. Little,
Administrator, Farm Service Agency.

[FR Doc. 03-8308 Filed 4-4-03; 8:45 am]

BILLING CODE 3410-05-P